DEPARTMENT OF COMMERCE

National Oceanic and Atmospheric Administration

Proposed Information Collection; Comment Request; Atlantic Herring Amendment 5 Data Collection

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 27, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Daniel Luers, Greater Atlantic Regional Fisheries Office, 55 Great Republic Dr., Gloucester, MA 01930, (978) 282-8457, Daniel.luers@noaa.gov.

SUPPLEMENTARY INFORMATION:

I. Abstract

This request is for extension of a current information collection. Under the Magnuson-Stevens Fishery Conservation and Management Act, the Secretary of Commerce has the responsibility for the conservation and management of marine fishery resources. Much of this responsibility has been delegated to NOAA's National Marine Fisheries Service (NMFS). Under this stewardship role, the Secretary was given certain regulatory authorities to ensure the most beneficial uses of these resources. One of the regulatory steps taken to carry out the conservation and management objectives is to collect information from users of the resources.

Data collection for Amendment 5 to the Atlantic Herring Fishery Management Plan requires renewal of Category E permits for limited access herring permit holders. This collection also requires herring carrier vessels that sell herring (rather than deliver those fish on behalf of a dealer for purchase) to obtain or maintain an At-Sea Atlantic Herring Dealer Permit. Vessels that have both an At-Sea Atlantic Herring Dealer Permit and a Federal fishing permit are required to fulfill the reporting requirements of both permits as appropriate.

This collection has several vessel monitoring system (VMS) and vessel trip reporting (VTR) components. Category E vessels must submit daily VMS reports, weekly VTRs, and maintain a VMS unit on their vessels and declare intent to target Atlantic herring via VMS. This collection allows a vessel that opts to enroll as a herring carrier to do so via VMS rather than obtaining a letter of authorization (LOA). By declaring a herring trip via VMS, a vessel is exempt from daily VMS catch reporting, and is not bound by the 7-day enrollment period required by the herring carrier LOA. Vessels with limited access herring permits, Category E permits, and vessels declaring herring carrier trips via VMS also must give a pre-landing notification to the NMFS Office of Law Enforcement via VMS. In addition, vessels are prohibited from turning off VMS units while in port. A vessel representative must request a letter of exemption (LOE) from NMFS to turn off its VMS if that vessel will be out of the water for more than 72 hours. A vessel owner is able to sign a herring vessel out of the VMS program for a minimum of 30 days by requesting and obtaining an LOE from NMFS. A vessel is not able to leave the dock unless the VMS unit is turned back on.

This collection also requires that vessels with limited access herring permits, vessels with open access Category D permits that are fishing with midwater trawl gear in Areas 1A, 1B, and/or 3, vessels with open access category E permits, and herring carrier vessels contact NMFS at least 48 hours in advance of fishing to request an observer. Vessels currently contact NMFS via phone, and selection notices or waivers are issued by NMFS via VMS. Vessels with limited access herring permits, Category E permits, and vessels declaring herring carrier trips via VMS must notify NMFS via VMS of their intent to participate in the herring fishery prior to leaving port on each trip by entering the appropriate activity and gear codes in order to harvest, possess, or land herring on that trip.

Additionally, this collection requires vessels issued limited access permits working cooperatively in the herring fishery to provide NMFS-approved observers with the estimated weight of each species brought on board or released on each tow.

Finally, this collection requires that all herring vessels (i.e. any area throughout the EEZ, any gear type) bring all catch aboard the vessel and make it available for sampling by an observer. If catch is not made available to an observer before discard, that catch is defined as slippage, and the vessel operator must complete a “Released Catch Affidavit” form within 48 hours of the end of the fishing trip which details why catch was slipped, estimates the quantity and species composition of the slipped catch, and records the time and location of the slipped catch.

II. Method of Collection

Information is collection on paper forms, by telephone, or electronically.

III. Data

OMB Control Number: 0648-0674.

Form Number(s): None.

Type of Review: Regular (extension of a current information collection).

Affected Public: Business or other for-profit organizations; individual or households, state, local, or tribal government.

Estimated Number of Respondents: 16,065.

Estimated Total Annual Burden Hours: 1,231.

Estimated Total Annual Cost to Public: $46,877 in recordkeeping/reporting costs.

Estimated Time per Response: Category E permit renewal, 1 minute; At-Sea Herring Dealer Permit renewal, 5 minutes; weekly dealer reports, 15 minutes; VMS activity declarations, 5 minutes; VMS power-down exemption letter, 5 minutes; VMS pre-landing notification and gear declaration, 5 minutes; catch reports and vessel trip reports, 5 minutes; request for an observer prior to a trip, 5 minutes; cancellation of trip, 1 minute; estimate of catch/discard provision, 1 minute; documentation of slippage, 5 minutes.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 20, 2016.
Sarah Brabson,
NOAA PRA Clearance Officer.

[FR Doc. 2016-25733 Filed 10-24-16; 8:45 am]

BILLING CODE 3510-22-P